FEDERAL ELECTION COMMISSION

11 CFR Part 112

[Notice 2018-15]

Rulemaking Petition: Advisory Opinion Procedures

AGENCY: Federal Election Commission.

ACTION: Rulemaking petition; notification of availability.

SUMMARY: On February 10, 2016, the Federal Election Commission received a Petition for Rulemaking that asks the Commission to promulgate rules establishing specific time periods for the submission of public comments on drafts of advisory opinions. The Commission seeks comments on this petition.

DATES: Comments must be submitted on or before February 1, 2019.

ADDRESSES: All comments must be in writing. Commenters are encouraged to submit comments electronically via the Commission's website at http://sers.fec.gov/fosers/, reference REG 2016-01. Alternatively, commenters may submit comments in paper form, addressed to the Federal Election Commission, Attn.: Robert M. Knop, Assistant General Counsel, 1050 First Street NE, Washington, DC 20463.

Each commenter must provide, at a minimum, his or her first name, last name, city, and state. All properly submitted comments, including attachments, will become part of the public record, and the Commission will make comments available for public viewing on the Commission's website and in the Commission's Public Records Office. Accordingly, commenters should not provide in their comments any information that they do not wish to make public, such as a home street address, personal email address, date of birth, phone number, Social Security number, or driver's license number, or any information that is restricted from disclosure, such as trade secrets or commercial or financial information that is privileged or confidential.

FOR FURTHER INFORMATION CONTACT: Mr. Robert M. Knop, Assistant General Counsel, or Ms. Cheryl A. Hemsley, Attorney, Office of the General Counsel, 1050 First Street NE, Washington, DC 20463, (202) 694-1650 or (800) 424-9530.

SUPPLEMENTARY INFORMATION: On February 10, 2016, the Federal Election Commission received a Petition for Rulemaking from Make Your Laws PAC, Inc., Make Your Laws Advocacy, Inc., Make Your Laws, Inc., and Dan Backer, Esq., asking the Commission to modify its regulation at 11 CFR 112.3 to provide time for the public to comment on drafts of advisory opinions before the Commission votes on the drafts.

Current Commission advisory opinion procedures state that the Commission “will provide at least one draft response to the Requestor and the public no later than one week prior to the Commission open meeting at which the advisory opinion will be considered.” Advisory Opinion Procedure, 74 FR 32160, 32161 (July 7, 2009). These procedures also note that “prior to the open meeting, additional advisory opinion draft responses may be produced after the initial draft(s) is released publicly,” and that “[t]he Commission will make available to the public and to Requestors any and all additional draft responses as soon as possible.” Id. The petition asks the Commission to modify its regulation at 11 CFR 112.3 to codify procedures establishing specific time periods for public comment on drafts of advisory opinions before the Commission votes on the drafts. The petition further asks the Commission to amend existing regulations to require that, when the Commission makes public multiple drafts of an advisory opinion, the Commission indicate the differences between those drafts.

The Commission seeks comments on the petition. The public may inspect the petition on the Commission's website at http://sers.fec.gov/fosers/, or in the Commission's Public Records Office, 1050 First Street NE, 12th Floor, Washington, DC 20463, Monday through Friday, from 9 a.m. to 5 p.m.

The Commission will not consider the petition's merits until after the comment period closes. If the Commission decides that the petition has merit, it may begin a rulemaking proceeding. The Commission will announce any action that it takes in the Federal Register.

On behalf of the Commission.
Dated: November 16, 2018.
Caroline C. Hunter,
Chair, Federal Election Commission.

[FR Doc. 2018-26111 Filed 11-30-18; 8:45 am]

BILLING CODE 6715-01-P